NUCLEAR REGULATORY COMMISSION

Sunshine Act Meeting Notice

Agency Holding the Meeting: Nuclear Regulatory Commission.

Date: Weeks of July 21, 28, August 4, 11, 18, 25, 2003.

Place: Commissioners' Conference Room, 11555 Rockville Pike, Rockville, Maryland.

Status: Public and Closed.

Matters to be Considered:

Week of July 21, 2003

There are no meetings scheduled for the Week of July 21, 2003.

Week of July 28, 2003—Tentative

There are no meetings scheduled for the Week of July 28, 2003.

Week of August 4, 2003—Tentative

There are no meetings scheduled for the Week of August 4, 2003.

Week of August 11, 2003—Tentative

There are no meetings scheduled for the Week of August 11, 2003.

Week of August 18, 2003—Tentative

There are no meetings scheduled for the Week of August 18, 2003.

Week of August 25, 2003—Tentative

Wednesday, August 27, 2003

9:30 a.m.—Briefing on License Renewal Program, Power Update Activities, and High Priority Activities (Public Meeting) (Contact: Ho Nieh, 301-415-1721).

This meeting will be webcast live at the Web address— http://www.nrc.gov.

* The schedule for Commission meetings is subject to change on short notice. To verify the status of meetings call (recording)—(301) 415-1292. Contact person for more information: David Louis Gamberoni (301) 415-1651.

Additional Information

By a vote of 3-0 on July 16, the Commission determined pursuant to U.S.C. 552b(e) and § 9.107(a) of the Commission's rules that “Discussion of Intergovernmental Issues (Closed—Ex. 9)” be held on July 16, and on less than one week's notice to the public.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 17, 2003.
D.L. Gamberoni,
Technical Coordinator, Office of the Secretary.

[FR Doc. 03-18682 Filed 7-18-03; 10:14 am]

BILLING CODE 7590-01-M